DEPARTMENT OF TRANSPORTATION

Coast Guard

33 CFR Part 117

[CGD01-01-096]

Drawbridge Operation Regulations: Newark Bay, NJ

AGENCY: Coast Guard, DOT.

ACTION: Notice of temporary deviation from regulations.

SUMMARY: The Commander, First Coast Guard District, has issued a temporary deviation from the drawbridge regulations which govern the operation of the Lehigh Valley (Upper Bay) railroad bridge, at mile 4.3, across Newark Bay in New Jersey. This deviation from the regulations allows the bridge owner to keep the bridge in the closed position from 6 a.m., on July 23, 2001 through 6 p.m., on July 27, 2001. This action is necessary to facilitate maintenance at the bridge. Vessels that can pass under the bridge without an opening may do so at all times.

DATES: This deviation is effective from July 23, 2001 through July 27, 2001.

FOR FURTHER INFORMATION CONTACT: Judy Yee, Project Officer, First Coast Guard District, at (212) 668-7165.

SUPPLEMENTARY INFORMATION: The Lehigh Valley (Upper Bay) railroad bridge, at mile 4.3, across Newark Bay has a vertical clearance of 35 feet at mean high water, and 39 feet at mean low water in the closed position. The existing operating regulations are listed at 33 CFR 117.735.

The bridge owner, Conrail, requested a temporary deviation from the operating regulations to facilitate replacement of the main counterweight sheave assembly at the bridge.

This deviation to the operating regulations will allow the owner of the bridge to keep the bridge in the closed position from 6 a.m., on July 23, 2001 through 6 p.m., on July 27, 2001. Vessels that can pass under the bridge without an opening may do so at all times.

In accordance with 33 CFR 117.35(c), this work will be performed with all due speed in order to return the bridge to normal operation as soon as possible. This deviation from the operating regulations is authorized under 33 CFR 117.35.

Dated: June 28, 2001.
G.N. Naccara,
Rear Admiral, U.S. Coast Guard, Commander, First Coast Guard District.

[FR Doc. 01-17389 Filed 7-10-01; 8:45 am]

BILLING CODE 4910-15-P